ENVIRONMENTAL PROTECTION AGENCY

[FRL-9258-01-OA]

Notification of Public Meetings of the Science Advisory Board Radiation Advisory Committee Augmented for the Review of Revision 2 of the Multi-Agency Radiation Survey and Site Investigation Manual

AGENCY: Environmental Protection Agency (EPA).

ACTION: Notice.

SUMMARY: The Environmental Protection Agency (EPA or Agency) Science Advisory Board (SAB) Staff Office announces two virtual public meetings of the SAB Radiation Advisory Committee (RAC) Augmented for the Review of Revision 2 of the Multi-Agency Radiation Survey and Site Investigation Manual l(MARSSIM), Revision 2 (Public Comment Draft).

DATES: The public meetings will be held on Monday December 6, 2021, and Thursday December 9, 2021. The meetings will be held from 1:00 p.m. to 5:00 p.m. (Eastern Standard Time) on both days.

ADDRESSES: The meetings will be conducted virtually. Please refer to the SAB website at https://sab.epa.gov for details on how to access the meetings.

FOR FURTHER INFORMATION CONTACT: Any member of the public who wants further information concerning this notice may contact Dr. Diana Wong, Designated Federal Officer (DFO), via telephone (202) 564-2049, or email at wong.diana-m@epa.gov. General information about the SAB, as well as any updates concerning the meetings announced in this notice can be found on the SAB website at https://sab.epa.gov.

SUPPLEMENTARY INFORMATION: Background: The SAB was established pursuant to the Environmental Research, Development, and Demonstration Authorization Act (ERDAA) codified at 42 U.S.C. 4365, to provide independent scientific and technical advice to the Administrator on the technical basis for Agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the SAB MARSSIM Panel will hold two virtual public meetings to discuss its draft report regarding the draft Multi-Agency Radiation Survey and Site Investigation Manual (MARSSIM), Revision 2 (Public Comment Draft). The Panel will provide advice to the Administrator through the chartered SAB regarding this document.

The SAB MARSSIM Panel held a public meeting on January 11-14, 2021. The purpose of that meeting was to develop responses to the peer review charge on the agency's draft Multi-Agency Radiation Survey and Site Investigation Manual (MARSSIM), Revision 2 (Draft for Public Comments)). The purpose of these virtual public meetings is for the Panel to discuss these responses and draft report. The two public meetings will be conducted as one complete meeting, beginning on December 6, 2021, and if necessary, will continue on December 9, 2021.

Availability of Meeting Materials: Additional background on this SAB activity, the meeting agenda, draft report, and other materials for the meetings will be posted on the SAB website at: https://sab.epa.gov.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to the EPA. Members of the public can submit relevant comments pertaining to the meeting materials or the group conducting this SAB activity. Input from the public to the SAB will have the most impact if it consists of comments that provide specific scientific or technical information or analysis for SAB committees and panels to consider or if it relates to the clarity or accuracy of the technical information. Members of the public wishing to provide comment should contact the DFO directly.

Oral Statements: In general, individuals or groups requesting an oral presentation on a public meeting will be limited to three minutes per speaker. Interested parties wishing to provide comments should contact Dr. Diana Wong, DFO (preferably via email), at the contact information noted above, by November 29, 2021, to be placed on the list of public speakers for the meeting.

Written Statements: Written statements will be accepted throughout the advisory process; however, for timely consideration by SAB RFT Review Panel members, statements should be received in the SAB Staff Office by November 29, 2021, for consideration at the public meeting(s). Written statements should be supplied to the DFO via email at the contact information above. Submitters are requested to provide a signed and unsigned version of each document because the SAB Staff Office does not publish documents with signatures on its websites. Members of the public should be aware that their personal contact information, if included in any written comments, may be posted to the SAB website. Copyrighted material will not be posted without explicit permission of the copyright holder.

Accessibility: For information on access or services for individuals with disabilities, please contact Dr. Diana Wong at wong.diana-m@epa.gov. To request accommodation of a disability, please contact Dr. Wong preferably at least ten days prior to the meeting, to give EPA as much time as possible to process your request.

Thomas Brennan,
Director, EPA Science Advisory Board Staff Office.

[FR Doc. 2021-25003 Filed 11-15-21; 8:45 am]

BILLING CODE 6560-50-P